FEDERAL COMMUNICATIONS COMMISSION

47 CFR Part 0

Commission Organization

CFR Correction

In Title 47 of the Code of Federal Regulations, parts 0 to 19, revised as of October 1, 2001, on page 20, the second § 0.111 is removed.

[FR Doc. 02-55504 Filed 1-30-02; 8:45 am]

BILLING CODE 1505-01-D